NATIONAL CREDIT UNION ADMINISTRATION

Renewal of Agency Information Collection of a Previously Approved Collection; Request for Comments

Correction

In notice document 2024-13504 beginning on page 51909 in the issue of Thursday, June 20th, 2024, make the following corrections:

1. On page 51910, in the first column, the 26th through 28th lines should appear as follows:

OMB Number: 3133-0195.

Title: Minority Depository Institution Preservation Program.

Type of Review: Revision of a currently approved collection

2. On the same page, in the same column, the sixth through fourth lines from the bottom of the page should appear as follows:

OMB Number: 3133-0190.

Title: Loans in Areas Having Special Flood Hazards, 12 CFR 760.

Type of Review: Revision of a currently approved collection

3. On the same page, in the second column, the 29th through 31st lines should appear as follows:

OMB Number: 3133-0133.

Title: Investment and Deposit Activities, 12 CFR part 703.

Type of Review: Revision of a currently approved collection

[FR Doc. C1-2024-13504 Filed 6-28-24; 8:45 am]

BILLING CODE 0099-10-D